NUCLEAR REGULATORY COMMISSION

[Docket No. 50-293]

Entergy Nuclear Operations, Inc.; Pilgrim Nuclear Power Station; Notice of Availability of the Final Supplement 29 to the Generic Environmental Impact Statement for License Renewal of Nuclear Plants, Regarding the License Renewal of Pilgrim Nuclear Power Station

Notice is hereby given that the U.S. Nuclear Regulatory Commission (NRC, Commission) has published a final plant-specific supplement to the “Generic Environmental Impact Statement for License Renewal of Nuclear Plants (GEIS),” NUREG-1437, regarding the renewal of operating license DPR-35 for an additional 20 years of operation for the Pilgrim Nuclear Power Station (Pilgrim). Pilgrim is located on the western shore of Cape Cod in the Town of Plymouth, Plymouth County, Massachusetts. It is 38 miles southeast of Boston, Massachusetts, and 44 miles east of Providence, Rhode Island. Possible alternatives to the proposed action (license renewal) include no action and reasonable alternative energy sources.

As discussed in Section 9.3 of the final Supplement 29, the recommendation of the staff is that the Commission determine that the adverse environmental impacts of license renewal for Pilgrim are not so great that preserving the option of license renewal for energy-planning decision makers would be unreasonable. The recommendation is based on: (1) The analysis and findings in the GEIS; (2) the Environmental Report submitted by Entergy; (3) consultation with Federal, State, and local agencies; (4) the staff's own independent review; and (5) the staff's consideration of public comments.

The final Supplement 29 to the GEIS is publicly available at the NRC Public Document Room (PDR), located at One White Flint North, 11555 Rockville Pike, Rockville, Maryland, 20852, or from the NRC's Agencywide Documents Access and Management System (ADAMS). The ADAMS Public Electronic Reading Room is accessible at http://adamswebsearch.nrc.gov/dologin.htm. The Accession Numbers for the final Supplement 29 to the GEIS are ML071990020 Volume 1 and ML071990027 Volume 2. Persons who do not have access to ADAMS, or who encounter problems in accessing the documents located in ADAMS, should contact the NRC's PDR reference staff by telephone at 1-800-397-4209, or 301-415-4737, or by e-mail at pdr@nrc.gov. In addition, the final supplement will be available at the following libraries for public inspection: the Plymouth Public Library, 132 South Street, the Duxbury Free Library, 77 Alden Street, and the Kingston Public Library, 6 Green Street.

FOR FURTHER INFORMATION, CONTACT: Ms. Alicia Williamson, Environmental Branch B, Division of License Renewal, Office of Nuclear Reactor Regulation, U.S. Nuclear Regulatory Commission, Mail Stop O-11F1, Washington, DC 20555-0001. Ms. Williamson may be contacted by telephone at 1-800-368-5642, extension 1878 or via e-mail at arw1@nrc.gov.

Dated at Rockville, Maryland, this 26th day of July, 2007.
For the Nuclear Regulatory Commission.
Rani L. Franovich,
Branch Chief, Environmental Branch B, Division of License Renewal, Office of Nuclear Reactor Regulation.

[FR Doc. E7-15051 Filed 8-1-07; 8:45 am]

BILLING CODE 7590-01-P